DEPARTMENT OF ENERGY

10 CFR Part 429

[Docket No. EERE-2013-BT-NOC-0039]

Appliance Standards and Rulemaking Federal Advisory Committee: Notice of Open Meetings Teleconference/Webinar, Update for the Commercial and Industrial Pumps Working Group

AGENCY: Department of Energy, Office of Energy Efficiency and Renewable Energy.

ACTION: Notice of open meetings; update.

SUMMARY: The Department of Energy (DOE) published in the Federal Register on January 14, 2014, a notice of open meetings for the Commercial and Industrial Pumps Working Group of the Appliance Standards and Rulemaking Federal Advisory Committee (ASRAC). Since publication of the January 14 notice of open meetings the working group has added an extra day to both series of meetings, which DOE is announcing in today's document. The Federal Advisory Committee Act requires that agencies publish notice of an advisory committee meeting in the Federal Register.

DATES: The last two meeting series announced in the Federal Register notice of open meetings on January 14, 2014 (79 FR 2383) will have a third day added and the meeting times on the second day adjusted. The meeting times for these two series of meetings will be as follows:

• June 17, 2014 from 9:00 a.m. to 5:00 p.m.

• June 18, 2014 from 9:00 a.m. to 6:00 p.m.

• June 19, 2014 from 8:00 a.m. to 3:00 p.m.

• July 23, 2014 from 9:00 a.m. to 5:00 p.m.

• July 24, 2014 from 9:00 a.m. to 6:00 p.m.

• July 25, 2014 from 8:00 a.m. to 3:00 p.m.

ADDRESSES: The meeting on June 17 will take place at 950 L'Enfant Plaza, Washington, DC 20024 in room 8037 A&B. All other meetings will be held in the U.S. Department of Energy, Forrestal Building, 1000 Independence Avenue SW., Washington, DC 20585. Individuals will also have the opportunity to participate by Webinar. To register for the Webinars and receive call-in information, please register at http://energy.gov/eere/buildings/appliance-standards-and-rulemaking-federal-advisory-committee.

FOR FURTHER INFORMATION CONTACT: John Cymbalsky, ASRAC Designated Federal Officer, U.S. Department of Energy (DOE), Office of Energy Efficiency and Renewable Energy, 950 L'Enfant Plaza SW., Washington, DC 20024. Email: asrac@ee.doe.gov.

SUPPLEMENTARY INFORMATION:

Purpose of Meeting: To provide advice and recommendations to the U.S. Department of Energy on a proposed rule for Commercial and Industrial pumps and equipment under the authority of the Negotiated Rulemaking Act (5 U.S.C. 561-570, Pub. L. 104-320).

Public Participation: Members of the public are welcome to observe the business of the meeting and, if time allows, may make oral statements during the specified period for public comment. To attend the meeting and/or to make oral statements regarding any of the items on the agenda, email asrac@ee.doe.gov. In the email, please indicate your name, organization (if appropriate), citizenship, and contact information. Please note that foreign nationals visiting DOE Headquarters are subject to advance security screening procedures. Any foreign national wishing to participate in the meeting should advise ASRAC staff as soon as possible by emailing asrac@ee.doe.gov to initiate the necessary procedures. Anyone attending the meeting will be required to present a government photo identification, such as a passport, driver's license, or government identification. Due to the required security screening upon entry, individuals attending should arrive early to allow for the extra time needed.

Members of the public will be heard in the order in which they sign up for the Public Comment Period. Time allotted per speaker will depend on the number of individuals who wish to speak but will not exceed five minutes. Reasonable provision will be made to include the scheduled oral statements on the agenda. A third-party neutral facilitator will make every effort to allow the presentations of views of all interested parties and to facilitate the orderly conduct of business.

Participation in the meeting is not a prerequisite for submission of written comments. ASRAC invites written comments from all interested parties. Any comments submitted must identify the ASRAC, and provide docket number EERE-2013-BT-NOC-0039. Comments may be submitted using any of the following methods:

1. Federal eRulemaking Portal: www.regulations.gov. Follow the instructions for submitting comments.

2. Email: ASRACworkgroup2013NOC0039@ee.doe.gov. Include docket number EERE-2013-BT-NOC-0039 in the subject line of the message.

3. Mail: Ms. Brenda Edwards, U.S. Department of Energy, Building Technologies Program, Mailstop EE-2J, 1000 Independence Avenue SW., Washington, DC 20585-0121. If possible, please submit all items on a compact disc (CD), in which case it is not necessary to include printed copies.

4. Hand Delivery/Courier: Ms. Brenda Edwards, U.S. Department of Energy, Building Technologies Program, 950 L'Enfant Plaza SW., Suite 600, Washington, DC 20024. Telephone: (202) 586-2945. If possible, please submit all items on a CD, in which case it is not necessary to include printed copies.

No telefacsimilies (faxes) will be accepted.

Docket: The docket is available for review at www.regulations.gov, including Federal Register notices, public meeting attendee lists and transcripts, comments, and other supporting documents/materials. All documents in the docket are listed in the www.regulations.gov index. However, not all documents listed in the index may be publicly available, such as information that is exempt from public disclosure.

The Secretary of Energy has approved publication of today's notice of proposed rulemaking.

Issued in Washington, DC, on May 14, 2014.
Kathleen B. Hogan,
Deputy Assistant Secretary for Energy Efficiency, Energy Efficiency and Renewable Energy.

[FR Doc. 2014-12013 Filed 5-22-14; 8:45 am]

BILLING CODE 6450-01-P